DEPARTMENT OF ENERGY

Federal Energy Regulatory Commission

[Docket No. PF08-31-000; Docket No. PF08-32-000 ]

Florida Gas Transmission Company; Transcontinental Gas Pipe Line Corporation; Notice of Intent To Prepare an Environmental Assessment for the Proposed Mobile Bay Lateral Extension Project and the Pascagoula Expansion Project and Request for Comments on Environmental Issues

December 18, 2008.

The staff of the Federal Energy Regulatory Commission (FERC or Commission) will prepare an environmental assessment (EA) that will discuss the environmental impacts of the construction and operation of facilities proposed by Florida Gas Transmission Company's (FGT) Mobile Bay Lateral Extension Project in Mobile County, Alabama and Transcontinental Gas Pipe Line Corporation's (Transco) and FGT's Pascagoula Expansion Project in Jackson County, Mississippi and Mobile County, Alabama.

This notice announces the opening of the scoping process we will use to gather input from the public and interested agencies on the project. Your input will help the Commission staff determine which issues need to be evaluated in the EA. Please note that the scoping period will close on January 15, 2009.

This notice is being sent to affected landowners; federal, state, and local government representatives and agencies; environmental and public interest groups; Native American tribes; other interested parties in this proceeding; and local libraries and newspapers. We encourage government representatives to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Transco and/or FGT provided to landowners. This fact sheet addresses a number of typically asked questions, including the use of eminent domain and how to participate in the Commission's proceedings. It is available for viewing on the FERC Internet Web site (http://www.ferc.gov).

Summary of the Proposed Projects

FGT's Mobile Bay Lateral Extension Project (Mobile Bay Project) would be located in Mobile County, Alabama. The existing Mobile Bay Lateral extends from FGT's mainlines near Citronelle, Alabama, to FGT's Compressor Station 44 (CS 44) in Mobile Bay, Alabama. FGT is requesting authorization to construct, own, and operate the facilities necessary to provide incremental firm transportation capacity of 342,610 million British thermal units per day (MMBtu/d) of natural gas from the proposed Gulf LNG Energy, LLC (Gulf LNG) Terminal Facility in Pascagoula, Mississippi to FGT's existing Mobile Bay Lateral. The new infrastructure would allow FGT to connect regassified liquefied natural gas (LNG) supply in south Alabama to the existing FGT system.

The Mobile Bay Project would consist of the following facilities:

• Installation of approximately 8.9 miles of 24-inch-diameter mainline pipeline, from near Grand Bay in Mobile County, Alabama to the existing FGT CS 44, (milepost [MP] 0.0);

• Installation of one new Meter and Regulation (M&R) Station (15-600 million cubic feet per day [mmcfd] with pig launcher at the tie-in with the proposed Pascagoula Expansion Project [MP 8.9]);

• Installation of one new Over Pressure Protection Regulator Station with pig receiver at the existing 30-inch Mobile Bay Lateral tie-in to the mainlines (located approximately 28.8 miles upstream from CS 44); and

• Station facility modifications at the existing FGT CS 44 (MP 0.0).

FGT and Transco jointly propose to construct the Pascagoula Expansion Project, which would connect to the approved Gulf LNG Facility in Pascagoula Mississippi. The project would involve the construction of about 15 miles of 26-inch-diameter pipeline extending from this receipt point interconnect to FGT's and Transco's existing Mobile Bay Lateral in Mobile County, Alabama (Pascagoula Supply Line) and modifications to FGT's and Transco's existing Compressor Station 82 in Mobile County, Alabama. The Pascagoula Supply Line would have a total capacity of 810,000 dekatherms per day.

The Pascagoula Expansion Project will consist of the following facilities:

• A receipt meter station near Pascagoula in Jackson County, Mississippi, at the terminus of the Gulf LNG Pipeline;

• Approximately 15 miles of 26-inch-diameter pipeline extending from this receipt point interconnect to FGT/Transco's existing Mobile Bay Lateral in Mobile County, Alabama (“Pascagoula Supply Line”);

• Modifications to FGT/Transco's existing Compressor Station 82 in Mobile County, Alabama; and

• Minor above-ground facilities.

The Pascagoula Expansion Project is directly related to FGT's proposed Mobile Bay Project in Docket No. PF08-31-000 and will be evaluated in a single environmental document. The Pascagoula Expansion Project would be the upstream pipeline delivering gas into FGT's proposed Mobile Bay Project.

The location of the project facilities is shown in Appendix 1.¹

¹ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Mobile Bay Project

Construction of the Mobile Bay Project's proposed facilities would require about 116.0 acres of land including above-ground facilities, pipeline, and access roads. Following construction, about 54.9 acres would be used for operation of the project's facilities. Of the remaining 61.1 acres of land, 33.8 acres would be overlapping existing permanent right-of-way and 27.3 acres would be restored or allowed to revert to former use along the pipeline right-of-way and above-ground facility sites.

Pascagoula Expansion Project

Construction of the proposed facilities for the Pascagoula Expansion Project would require about 191.7 acres of land including above-ground facilities, pipeline, and access roads. Following construction, about 97.7 acres would be used for operation of the project's facilities. The remaining 94.0 acres of land would be restored or allowed to revert to former use along the pipeline right-of-way.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ² will discuss impacts that could occur as a result of the construction and operation of the proposed project under these general headings:

² “We”, “us”, and “our” refer to the environmental staff of the Office of Energy Projects (OEP).

• Geology and soils

• Land use

• Water resources, fisheries, and wetlands

• Cultural resources

• Vegetation and wildlife

• Air quality and noise

• Endangered and threatened species

• Public safety

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission. To ensure your comments are considered, please carefully follow the instructions in the public participation section below.

With this NOI, we are asking federal, state, and local agencies with jurisdiction and/or special expertise with respect to environmental issues to formally cooperate with us in the preparation of the EA. These agencies may choose to participate once they have evaluated the proposal relative to their responsibilities. Additional agencies that would like to request cooperating agency status should follow the instructions for filing comments provided under the Public Participation section of this NOI.

Currently Identified Environmental Issues

We have already identified several issues that we think deserve attention based on a preliminary review of the proposed facilities and the environmental information provided by Transco. This preliminary list of issues may be changed based on your comments and our analysis.

• Cultural resources may be affected by the project.

• Potential impacts may occur to streams and wetlands.

• The project could potentially affect threatened or endangered species.

• Nearby residences may be affected by construction activities.

• We received comments from the public during FGT's and Transco's open house meetings suggesting that an alternative route for the Pascagoula Expansion Project should parallel Interstate Route 90 through the Grand Bay National Wildlife Refuge (GBNWR). We welcome additional comments on this alternative route, including from the GBNWR.

Public Participation

You can make a difference by providing us with your specific comments or concerns about the Mobile Bay Lateral Extension Project and the Pascagoula Expansion Project. Your comments should focus on the potential environmental effects, reasonable alternatives, and measures to avoid or lessen environmental impacts. The more specific your comments, the more useful they will be. To ensure that your comments are timely and properly recorded, please send in your comments so that they will be received in Washington, DC on or before January 21, 2009.

For your convenience, there are three methods in which you can use to submit your comments to the Commission. In all instances please reference the project docket numbers PF08-31-000 and PF08-32-000 with your submission. The docket numbers can be found on the front of this notice. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 2, PJ11.2.

Environmental Mailing List

An effort is being made to send this notice to all individuals, organizations, and government entities interested in and/or potentially affected by the proposed project. This includes all landowners who are potential right-of-way grantors, whose property may be used temporarily for project purposes, or who own homes within distances defined in the Commission's regulations of certain above-ground facilities.

If you do not want to send comments at this time but still want to remain on our mailing list, please return the Information Request (Appendix 2). If you do not return the Information Request, you will be taken off the mailing list.

Becoming an Intervenor

Once FGT and Transco formally file its applications with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until formal applications are filed with the Commission.

Availability of Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E8-30744 Filed 12-24-08; 8:45 am]

BILLING CODE 6717-01-P